DEPARTMENT OF THE INTERIOR

Bureau of Land Management

[NM-940-08-1420-BJ]

Notice of Filing of Plats of Survey; New Mexico

AGENCY: Bureau of Land Management, Interior.

ACTION: Notice.

SUMMARY: The plats of survey described below are scheduled to be officially filed in the New Mexico State Office, Bureau of Land Management, Santa Fe, New Mexico, (30) thirty calendar days from the date of this publication.

SUPPLEMENTARY INFORMATION:

New Mexico Principal Meridian, New Mexico

The plat, representing the dependent resurvey and survey for Township 11 North, Range 2 East, accepted September 28, 2007, for Group 976 New Mexico.

The plat, representing the dependent resurvey and subdivision of section for Township 10 South, Range 25 East, accepted August 28, 2007, for Group 940 New Mexico.

The plat, in two sheets representing the dependent resurvey and survey for Township 10 North, Range 3 West, accepted May 14, 2007, for Group 1042 New Mexico.

The plat, in four sheets representing the dependent resurvey and survey for Township 9 North, Range 3 West, accepted May 14, 2007, for Group 1042 New Mexico.

The plat, representing the dependent resurvey and subdivision of section 18 for Township 14 North, Range 9 East, accepted May 24, 2007, for Group 1063 New Mexico.

The plat, representing the dependent resurvey and survey for Township 23 North, Range 10 East, accepted June 7, 2007, for Group 1060 New Mexico.

The plat, representing the dependent resurvey and subdivision of section 12 for Township 131 North, Range 2 West, accepted April 13, 2007, for Group 1020 New Mexico.

The plat, representing the dependent resurvey for Township 3 South Range 12 West, accepted June 7, 2007, for Group 932 New Mexico.

The plat, representing the dependent resurvey and subdivision of sections for Township 5 North, Range 19 West, accepted May 11, 2007, for Group 1051 New Mexico.

The plat, in five sheets, representing the dependent resurvey and survey for Township 28 North, Range 8 West, accepted June 11, 2007, for Group 931 New Mexico.

The plat, in two sheets representing the dependent resurvey and subdivision of section 17 for Township 6 South, Range 26 East, accepted October 30, 2007, for Group 981 New Mexico.

The plat, representing the dependent resurvey and subdivision of sections for Township 5 South, Range 25 East, accepted October 30, 2007, for Group 981 New Mexico.

Indian Meridian, Oklahoma

The plat, representing the dependent resurvey and subdivision of section 16 for Township 24 North, Range 7 East, accepted October 19, 2007, for Group 147 Oklahoma.

The supplemental plat representing Township 10 North, Range 24 East, accepted October 11, 2007, Oklahoma.

The supplemental plat representing the dependent resurvey and survey for Township 9 North, Range 6 East, accepted September 7, 2007, for Group 148 Oklahoma.

The plat, representing the dependent resurvey and subdivision of section for Township 25 North, Range 2 East, accepted June 27, 2007, for Group 136 Oklahoma.

The plat, representing the dependent resurvey and subdivision of section for Township 1 South, Range 2 West, accepted May 31, 2007, for Group 151 Oklahoma.

The plat, representing the dependent resurvey and subdivision of section 4, for Township 24 North, Range 7 East, accepted June 25, 2007, for Group 146 Oklahoma.

The plat, representing the dependent resurvey and subdivision of section 14 for Township 3 South, Range 7 West, accepted April 13, 2007, for Group 156 Oklahoma.

The plat, representing the dependent resurvey and subdivision of section for Township 19 North, Range 22 East, accepted April 25, 2007, for Group 145 Oklahoma.

The plat, in two sheets representing the dependent resurvey and subdivision of section 8 for Township 15 North, Range 11 West, accepted October 23, 2007, for Group 158 Oklahoma.

The plat, representing the dependent resurvey for Township 8 South, Range 23 East, accepted October 23, 2007, for Group 165 Oklahoma.

The plat, representing the dependent resurvey for Township 8 North, Range 6 East, accepted November 8, 2007, for Group 168 Oklahoma.

The plat, representing the dependent resurvey and subdivision of section 13 for Township 1 south, Range 6 West, accepted October 31, 2007, for Group 154 Oklahoma.

The plat, representing the dependent resurvey and subdivision of section 18 for Township 17 North, Range 11 West, accepted October 17, 2007, for Group 139 Oklahoma.

Sixth Principal Meridian, Kansas

The plat, representing the dependent resurvey and survey for Township 1 South, Range 19 East, accepted August 27, 2007, for Group 28 Kansas.

The plat, representing the dependent resurvey and survey for Township 33 South, Range 41 West, accepted January 15, 2008, for Group 30 Kansas.

Texas

The plat, representing the dependent resurvey and survey for Block P.M.C. EL & RR Railway Survey accepted June 20, 2007 for Group 9 Texas.

If a protest against a survey, as shown on any of the above plats is received prior to the date of official filing, the filing will be stayed pending consideration of the protest. A plat will not be officially filed until the day after all protests have been dismissed.

A person or party who wishes to protest against any of these surveys must file a written protest with the New Mexico State Director, Bureau of Land Management, stating that they wish to protest.

A statement of reasons for a protest may be filed with the notice of protest to the State Director, or the statement of reasons must be filed with the State Director within thirty days after the protest is filed.

FOR FURTHER INFORMATION CONTACT: These plats will be available for inspection in the New Mexico State Office, Bureau of Land Management, and P.O. Box 27115, Santa Fe, New Mexico, 87502-0115. Copies may be obtained from this office for a minimum recovery fee.

Dated: January 23, 2008.
Jay M. Innes
Acting Chief Cadastral Surveyor, New Mexico.

[FR Doc. 08-484 Filed 2-4-08; 8:45 am]

BILLING CODE 4310-FB-M